DEPARTMENT OF TRANSPORTATION

Federal Aviation Administration

Notice of Intent of Waiver With Respect to Land; Sloulin Field International Airport, ISN, Williston, North Dakota

AGENCY: Federal Aviation Administration (FAA), DOT.

ACTION: Notice.

SUMMARY: The FAA is considering a proposal to change 788.93 acres of airport land from aeronautical use to non-aeronautical use and to authorize the sale of airport property located at the former Sloulin Field International Airport, ISN, Williston, ND. The aforementioned land is not needed for aeronautical use because the new Williston Basin International Airport, XWA, Williston, ND is open and available for public aeronautical use. The former Williston Airport, ISN, site is located primarily on the west side of Highway 2, north of 26th Street in the City of Williston with 7.25 acres located on the east side of Highway 2. The airport's prior aeronautical use was for commercial and general aviation flying. The proposed non-aeronautical use of the property will be for commercial and residential development.

DATES: Comments must be received on or before March 27, 2020.

ADDRESSES: Documents are available for review by appointment at the FAA Dakota-Minnesota Airports District Office, Mark J. Holzer, FAA Program Manager, 2301 University Drive-Bldg. 23B, Bismarck, ND 58504 Telephone: 701-323-7393/Fax: 701-323-7399 and City of Williston, Williston Basin Intl. Airport, 14127 Jensen Ln. Suite 200, Williston, ND 58801, Telephone: 701-875-8594. Written comments on the Sponsor's request must be delivered or mailed to: Mark J. Holzer, FAA Program Manager, Federal Aviation Administration, Dakota-Minnesota Airports District Office, 2301 University Drive-Bldg. 23B, Bismarck, ND 58504 Telephone: 701-323-7393/Fax: 701-323-7399.

FOR FURTHER INFORMATION CONTACT: Mark J. Holzer, FAA Program Manager, Federal Aviation Administration, Dakota-Minnesota Airports Bismarck District Office, 2301 University Drive-Bldg. 23B, Bismarck, ND 58504 Telephone: 701-323-7393/Fax: 701-323-7399.

SUPPLEMENTARY INFORMATION:

In accordance with section 47107(h) of Title 49, United States Code, this notice is required to be published in the Federal Register 30 days before modifying the land-use assurance that requires the property to be used for an aeronautical purpose.

The former Sloulin Field International Airport was a commercial service airport located in the City of Williston, ND. The land was acquired by the City of Williston with funding assistance from the FAA AIP, ADAP and FAAP grant programs, ND State Aeronautics Commission and local funding. The City of Williston plans to make the former airport site available for development opportunities including combinations of multi-family residential, commercial and business uses as well as public and civic uses.

The disposition of proceeds from the sale of the airport property will be in accordance with FAA's Policy and Procedures Concerning the Use of Airport Revenue, published in the Federal Register on February 16, 1999 (64 FR 7696). Approval does not constitute a commitment by the FAA to financially assist in the change in use of the subject airport property nor a determination of eligibility for grant-in-aid funding from the FAA.

This notice announces that the FAA is considering the release of the subject airport property at the former Sloulin Field International Airport, ISN, Williston, ND from all federal land covenants, subject to a restrictive covenant related to the future use of certain “avoidance areas” within the released property. The FAA's Finding of No Significant Impact/Record of Decision for the Proposed Replacement Airport (XWA), dated September 22, 2015, requires such restrictive covenant as a condition for releasing the former airport property. Approval does not constitute a commitment by the FAA to financially assist in the disposal of the subject airport property nor a determination of eligibility for grant-in-aid funding from the FAA.

Property Description

Parcels West of Hwy 2

Lots 8, 9 & 10 in Block 4 and Lots 1, 2, 3, 4, 5, 6, 7, 8, 9, 10, 11 & 12 in Block 7 of SLOULIN FIELD FIRST ADDITION to the City of Williston, Williams County, North Dakota; AND Lots 1R, 2R, 3R, 4R, 5R, 6R, 7R, 8R, 9R, and 10R in Block 4 of the REARRANGEMENT OF LOTS 1, 2, 3, 4, 5, 6, & 7 IN BLOCK 4 OF THE SLOULIN FIELD FIRST ADDITION to the City of Williston, Williams County, North Dakota; AND

Lots 1, 2, 3, 4, 5, & 6 in Block 8 of SLOULIN FIELD SECOND ADDITION to the City of Williston, Williams County, North Dakota; AND

Plots 1, 2, 3 & 4 of the Plat of the SW¼SE¼ of Section 11, Township 154 North, Range 101 West of the 5th/Principal Meridian, Williams County, North Dakota; AND

Plots 9 and 10 of the Plat of the SE¼SE¼ of Section 11, Township 154 North, Range 101 West of the 5th Principal Meridian, Williams County, North Dakota; AND

A tract in the SE¼SW¼, S½SE¼, NW¼SE¼ of Section 3, Township 154 North, Range 101 West of the 5th/Principal Meridian, Williams County, North Dakota as described in Book 214 Deeds, page 95; AND

A tract in the SE¼SE¼ of Section 3, Township 154 North, Range 101 West of the 5th Principal Meridian, Williams County, North Dakota as described in Document No. 469117 plus ½ vacated alley; AND

A tract in the NW¼NE¼ of Section 10, Township 154 North, Range 101 West of the 5th Principal Meridian, Williams County, North Dakota as described in Book 215 Deeds, Page 73; AND

A tract in the SE¼NE¼ of Section 10, Township 154 North, Range 101 West of the 5th Principal Meridian, Williams County, North Dakota as described in Document No. 473961; AND

ALL of the NE¼NE¼ of Section 10, Township 154 North, Range 101 West of the 5th Principal Meridian, Williams County, North Dakota; AND

All of Section 11, Township 154 North, Range 101 West of the 5th Principal Meridian, Williams County, North Dakota, LESS AND EXCEPT All Lots and Blocks in the SLOULIN FIELD FIRST ADDITION to the City of Williston; All Lots and Blocks in the REARRANGEMENT OF LOTS 1, 2, 3, 4, 5, 6, & 7 IN BLOCK 4 OF THE SLOULIN FIELD FIRST ADDITION to the City of Williston; All Lots and Blocks in the SLOULIN FIELD WAL-MART REARRANGEMENT; All Lots and Blocks in the GLENN ADDITION; All Lots and Blocks in the HERRON FLATS SUBDIVISION; All Lots and Blocks in the PITMAN ADDITION; All Lots and Blocks in the GLENN REARRANGEMENT OF LOTS 5 AND 6 of the Plat of SW¼SE¼ of Section 11, Township 154 North, Range 101 West of the 5th Principal Meridian, Williams County, North Dakota; Plots 11 & 12 of the Plat of SW¼SE¼ of Section 11, Township 154 North, Range 101 West of the 5th Principal Meridian, Williams County, North Dakota; All Lots and Blocks in the JOHNSON'S REARRANGEMENT of the E½ of Lot 12 of the Plat of SE¼SE¼ of Section 11, Township 154 North, Range 101 West of the 5th Principal Meridian, Williams County, North Dakota; and LESS AND EXCEPTING 2 tracts of land in the SE¼SE¼ of Section 11, Township 154 North, Range 101 West of the 5th Principal Meridian, Williams County, North Dakota as described in Document No. 767736; ALL IN THE CITY OF WILLISTON, WILLIAMS COUNTY, NORTH DAKOTA; AND

Lots 1 and 2 of WILLISTON MUNICIPAL GOLF COURSE SUBDIVISION to the City of Williston, Williams County, North Dakota.

Additional Parcels East of Hwy 2

Lots 4, 5, 6, 7, 12, 13, 14, 15, 16, 17, Block 1, Monroe Subdivision to the City of Williston, Williams County, North Dakota;

Lots 18R and 19R of the Monroe Rearrangement of Lots 1, 18 and 19 of Block 1, Block 1, Monroe Subdivision to the City of Williston, Williams County, North Dakota;

Block 2R of Crow Fly High Rearrangement of Lot 1 of Crow Fly High Subdivision to the City of Williston, Williams County, North Dakota.

Issued in Minneapolis, MN, on February 19, 2020.
Andy Peek,
Manager, Dakota-Minnesota Airports District Office, FAA, Great Lakes Region.

[FR Doc. 2020-03870 Filed 2-25-20; 8:45 am]

BILLING CODE 4910-13-P